DEPARTMENT OF ENERGY

Federal Energy Regulatory Commission

[Docket No. ER01-3100-000, et al.]

PacifiCorp, et al.; Electric Rate and Corporate Regulation Filings

September 26, 2001.

Take notice that the following filings have been made with the Commission:

1. PacifiCorp

[Docket No. ER01-3100-000]

Take notice that on September 24, 2001, PacifiCorp tendered for filing with the Federal Energy Regulatory Commission (Commission), in accordance with 18 CFR Part 35 of the Commission's Rules and Regulations, Replacement Service Agreements for Long-term Firm Transmission Service with IDACORP Energy LP (IDACORP) under PacifiCorp's FERC Electric Tariff, Second Revised Volume No. 11 (Tariff).

Copies of this filing were supplied to the Washington Utilities and Transportation Commission and the Public Utility Commission of Oregon.

Comment date: October 15, 2001, in accordance with Standard Paragraph E at the end of this notice.

2. Richmond County Power, LLC

[Docket Nos. ER01-1417-003]

Take notice that on September 24, 2001, Richmond County Power, LLC tendered for filing with the Federal Energy Regulatory Commission (Commission), a supplement to its compliance filing for authorization to sell energy, capacity and ancillary services at market-based rates.

Comment date: October 15, 2001, in accordance with Standard Paragraph E at the end of this notice.

3. Energy Atlantic, LLC

[Docket No. ER98-4381-006]

Take notice that on September 24, 2001, Energy Atlantic, LLC (Energy Atlantic) filed with the Federal Energy Regulatory Commission (Commission), an updated market analysis as required by the Commission's October 16, 1998 order in Docket No. ER98-4381-000 granting Energy Atlantic market-based rate authority.

Comment date: October 15, 2001, in accordance with Standard Paragraph E at the end of this notice.

4. New York Independent System Operator, Inc.

[Docket No. ER01-2230-001]

Take notice that on September 21, 2001, the New York Independent System Operator, Inc. and the Members of the Transmission Owners Committee of the Energy Association of New York State, formerly known as the Member Systems of the New York Power Pool (Member Systems), tendered for filing with the Federal Energy Regulatory Commission (Commission) a compliance filing in accordance with the Commission's July 31, 2001 Order in the above-captioned proceeding.

A copy of this filing was served upon all persons on the Commission's official service list(s) in the captioned proceeding(s).

Comment date: October 12, 2001, in accordance with Standard Paragraph E at the end of this notice.

5. PSEG Fossil LLC, PSEG Nuclear LLC and PSEG Energy Resources & Trade LLC

[Docket No. ER01-2462-002]

Take notice that on September 24, 2001, PSEG Fossil LLC, PSEG Nuclear LLC and PSEG Energy Resources & Trade LLC (collectively, the PSEG Companies), of Newark, New Jersey tendered for filing an amendment to the Joint Application for Waiver of Filing Requirements of the Federal Energy Regulatory Commission (Commission), pursuant to Section 35.8 of the Commission's regulations, 18 CFR 35.8 (2001).

This amendment is submitted in accordance with the Commission's August 24, 2001 Deficiency Letter providing further justification for the PSEG Companies' waiver request.

Copies of the filing have been served upon Old Dominion Electric Cooperative.

Comment date: October 15, 2001, in accordance with Standard Paragraph E at the end of this notice.

6. DPL Energy, LLC

[Docket No. ER01-2483-001]

Take notice that on September 21, 2001 DPL Energy, LLC (DPL Energy) submitted for filing with the Federal Energy Regulatory Commission (Commission or FERC) in compliance with the requirements of the Commission's August 29, 2001 Letter Order in Docket No. ER01-2483-000 two rate schedules, DPL Energy, LLC First Revised FERC Rate Schedule No. 1 and DPL Energy, LLC First Revised FERC Rate Schedule No. 4, which have been revised to incorporate the designation information required by Order No. 614.

DPL Energy states that a copy of this filing has been served on each person designated on the official service list in Docket No. ER01-2483-000.

Comment date: October 12, 2001, in accordance with Standard Paragraph E at the end of this notice.

7. Michigan Electric Transmission Company

[Docket No. ER01-3075-001]

Take notice that on September 24, 2001, Michigan Electric Transmission Company (Michigan Transco) tendered for filing with the Federal Energy Regulatory Commission (Commission or FERC), a number of substitute tariff sheets as part of the pro forma Generator Interconnection and Operating Agreement (GIOA) which is part of Attachment J of Michigan Transco's FERC Electric Tariff No. 1. All of the changes are to correct errors made in the tariff sheet designation footers of sheets filed in this docket on September 17, 2001. Some supplemental explanatory materials were also included in the filing. The corrected sheets are:

Substitute First Revised Sheet Nos. 136, 137, 140, 145, 154, 156, 167 and 168 and Substitute Original Sheet Nos. 137A, 140A, and 145A.

The sheets are to have the same effective date of September 17, 2001 as the sheets originally filed in this docket. A copy of the tariff sheets was served upon the Michigan Public Service Commission.

Comment date: October 15, 2001, in accordance with Standard Paragraph E at the end of this notice.

8. PacifiCorp

[Docket No. ER01-3094-000]

Take notice that on September 21, 2001, PacifiCorp, tendered for filing with the Federal Energy Regulatory Commission (Commission), in accordance with 18 CFR 35 of the Commission's Rules and Regulations, one year Letter Agreements dated March 24, 1997 between San Diego Gas & Electric Company (San Diego) and PacifiCorp.

Copies of this filing were supplied to the Washington Utilities and Transportation Commission and the Public Utility Commission of Oregon.

Comment date: October 12, 2001, in accordance with Standard Paragraph E at the end of this notice.

9. Cleco Power LLC

[Docket No. ER01-3095-000]

Take notice that on September 24, 2001, Cleco Power LLC (Cleco Power), tendered for filing with the Federal Energy Regulatory Commission (Commission), a Notice of Cancellation pursuant to 18 CFR 35.15, effective September 24, 2001, canceling Cleco Utility Group, Inc.'s Rate Schedule 1 and all supplements. Cleco Power simultaneously filed essentially the same rate schedule as Cleco Power's Rate Schedule 2. Cleco Power also requested an additional 90 days to comply with the Commission's orders in Cleco Power LLC, Docket Nos. ER01-1099-000 and ER01-1099-001, issued March 28, 2001, ER01-1099-002, issued June 18, 2001, and ER01-2147-000, issued July 24, 2001, instructing Cleco Power to bring all of its rate schedules and service agreements into compliance with the Commission's Order 614, issued March 31, 2000.

Comment date: October 15, 2001, in accordance with Standard Paragraph E at the end of this notice.

10. Allegheny Energy Service Corporation, on behalf of Allegheny Energy Supply Company, LLC (AE Supply

[Docket No. ER01-3096-000]

Take notice that on September 24, 2001, Allegheny Energy Service Corporation on behalf of Allegheny Energy Supply Company, LLC (AE Supply), filed with the Federal Energy Regulatory Commission (Commission or FERC), First Revised Rate Schedule FERC No. 5 (First Revised Schedule) with the Potomac Edison Company dba Allegheny Power in order for Allegheny Power to continue to provide standard offer serve to it Maryland customers. AE Supply has requested a waiver of notice to make the First Revised Schedule effective on January 1, 2001.

Copies of the filing have been provided to the customer and to the Virginia State Corporation Commission.

Comment date: October 15, 2001, in accordance with Standard Paragraph E at the end of this notice.

11. PacifiCorp

[Docket No. ER01-3097-000]

Take notice that on September 24, 2001, PacifiCorp tendered for filing with the Federal Energy Regulatory Commission (Commission or FERC), in accordance with 18 CFR 35 of the Commission's Rules and Regulations, Umbrella Service Agreements for Non-Firm and Short-Term Firm Transmission Service with Calpine Energy Services LP (Calpine), City of Klamath Falls (Klamath Falls), Exelon Generation Company, LLC (Exelon), and IDACORP Energy LP (IDACORP) under PacifiCorp's FERC Electric Tariff, Second Revised Volume No. 11 (Tariff).

Copies of this filing were supplied to the Washington Utilities and Transportation Commission and the Public Utility Commission of Oregon.

Comment date: October 15, 2001, in accordance with Standard Paragraph E at the end of this notice.

12. Cleco Power LLC

[Docket No. ER01-3098-000]

Take notice that on September 24, 2001, Cleco Power LLC (Cleco Power), tendered for filing with the Federal Energy Regulatory Commission (Commission), a service agreement under which Cleco Power will provide short-term firm point-to-point transmission service to Exelon Generation Company, LLC under its point-to-point transmission tariff.

Comment date: October 15, 2001, in accordance with Standard Paragraph E at the end of this notice.

13. PacifiCorp

[Docket No. ER01-3099-000]

Take notice that on September 24, 2001, PacifiCorp tendered for filing with the Federal Energy Regulatory Commission (Commission), in accordance with 18 CFR 35 of the Commission's Rules and Regulations, Network Integration Transmission Service Agreements with Flathead Electric Cooperative, Inc. (Flathead) and Basin Electric Power Cooperative (Basin) under PacifiCorp's FERC Electric Tariff, Third Revised Volume No. 11 (Tariff).

Copies of this filing were supplied to the Washington Utilities and Transportation Commission and the Public Utility Commission of Oregon.

Comment date: October 15, 2001, in accordance with Standard Paragraph E at the end of this notice.

14. PPL Electric Utilities Corporation

[Docket No. ER01-3101-000]

Take notice that on September 24, 2001, PPL Electric Utilities Corporation (PPL Electric) filed with the Federal Energy Regulatory Commission an Interconnection Agreement between PPL Electric and Sight & Sound.

PPL Electric requests an effective date of July 27, 2001 for the Interconnection Agreement.

PPL Electric states that it has served a copy of this filing on Sight & Sound.

Comment date: October 15, 2001, in accordance with Standard Paragraph E at the end of this notice.

15. Cinergy Services, Inc.

[Docket No. ER01-3102-000]

Take notice that on September 24, 2001 Cinergy Services, Inc. tendered for filing a confirmation letter governing a long-term agreement with Wabash Valley Power Association, Inc. under the Cinergy Services Market-Based Sales Tariff—MB, FERC Electric Tariff Original Volume No. 7 and an Assignment and Assumption Agreement pursuant to which Cinergy Capital & Trading, Inc. assigned the Confirmation Letter to Cinergy Services with the express written consent of WVPA. The Assignment Agreement was executed on August 3, 2001, prior to the effective date of the Confirmation Letter.

Comment date: October 15, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-24802 Filed 10-3-01; 8:45 am]

BILLING CODE 6717-01-P